DEPARTMENT OF EDUCATION

Office of Vocational and Adult Education; Overview Information; State Scholars Initiative; Notice Inviting Applications for New Awards for Fiscal Year (FY) 2005

Catalog of Federal Domestic Assistance (CFDA) Number: 84.051U.

DATES: Applications Available: August 5, 2005. Deadline for Transmittal of Applications: September 6, 2005.

Eligible Applicants: National nonprofit organizations or agencies that—

(1) Have background and expertise in the education field and have been in existence for at least three years;

(2) Have worked actively with members of the business and education communities in one or more States, or at the national level, in carrying out the nonprofit entity's core activities; and

(3) Have been providing technical assistance to local educational agencies (LEAs), State educational agencies (SEAs), secondary schools, educational institutions, or nonprofit educational organizations or agencies, on curriculum or other educational matters.

Estimated Available Funds: $4,800,000 during the 24-month project period. The grant made under this competition will be made from FY 2004 and FY 2005 funds.

Estimated Size of Award: $4,800,000.

Estimated Number of Awards: 1.

Note: The Department is not bound by any estimates in this notice.

Note: The yearly operating budget for the grantee's administrative and direct program activity costs must be approved by the Department and is limited to between $600,000 and $800,000, except as approved by the Department. The major portion of the grant funds must be used to support contracts with State-level business-education partnerships (as defined elsewhere in this notice) that the grantee selects to carry out the State Scholars Initiative (Initiative) activities.

Note: Any remaining FY 2003 funds currently held by the Center for State Scholars, the current grantee for the Initiative, will be transferred to the grantee selected under this competition and will be used to reimburse existing State-level business-education partnerships that were selected by the Center for State Scholars.

Note: The Assistant Secretary plans to make an award to the entity selected under this competition through a cooperative agreement. The Assistant Secretary expects the Department's interaction with the grant recipient to be characterized by continuing and regular participation in the project, unusually close collaboration with the grant recipient, and direct operational involvement in Initiative activities.

Project Period: Up to 24 months.

Full Text of Announcement

I. Funding Opportunity Description

Purpose of Program: Section 114 of the Carl D. Perkins Vocational and Technical Education Act of 1998 (Act), 20 U.S.C. 2301 et seq., authorizes the Secretary to support, among other things, development, dissemination, evaluation and assessment, capacity building, and technical assistance with regard to vocational education to further the purposes of the Act. The purpose of the Initiative is to support a national nonprofit organization or agency that will fund and provide technical assistance, monitoring, oversight, and cost reimbursements to State-level business-education partnerships that will encourage and motivate high school students to enroll in and complete rigorous courses of study that will benefit them in their future careers, postsecondary education, or training.

Requirements

Background: The Initiative is designed to support the goals and objectives of the Act and is fully aligned with the principles and objectives of the Elementary and Secondary Education Act of 1965, as amended by the No Child Left Behind Act of 2001.

A number of studies indicate that rigorous academic course work in high school is essential to future academic and career success. In fact, studies show that students who lack strong academic preparation tend to face limited career and educational choices and to encounter greater difficulty in the workplace and college. (Condition of Education 2001, NCES 2001; Credits and Attainment: Returns to Postsecondary Education Ten Years After High School, NCES 2001). Unfortunately, many high school students' academic preparation is inferior. In fact, less than one-third (31 percent) of all 1995-1996 graduates took the minimum number of courses recommended for college entrance by the National Commission on Excellence in Education. (High School Academic Curriculum and The Persistence Path Through College, NCES, 2001). For example, in the fall of 2000, 28 percent of entering freshmen in postsecondary institutions enrolled in at least one remedial course in reading, writing, or mathematics. (Remedial Education at Degree-Granting Postsecondary Institutions in Fall 2000, NCES, 2004). Unfortunately, for each remedial class a student takes, his or her chance of dropping out of college increases by 20 percent. (American Diploma Project, 2002). Accordingly, it is important to the future success of high school students that they be motivated and encouraged to select and complete strong academic courses of study.

Under the Initiative, the Assistant Secretary seeks to fund a national nonprofit organization or agency that will fund and provide technical assistance, monitoring, oversight, and cost reimbursements to State-level business-education partnerships that will encourage and motivate high school students to enroll in and complete rigorous courses of study that will benefit them in their future careers, postsecondary education, or training. While the grantee will encourage all students to pursue a rigorous course of study, a particular focus of the Initiative is to persuade and motivate vocational and technical students to select and complete strong academic courses of study in high school.

Anticipated outcomes for participating students include increased enrollment in rigorous courses of study and increased enrollment in, and completion of, postsecondary education or additional vocational and technical education and training after high school.

Requirements

Required Demonstration of Eligibility:

In its application narrative, the applicant must demonstrate how it meets the eligibility criteria.

Required Program Activities:

Through the Initiative, the Assistant Secretary awards one grant under a cooperative agreement to an eligible applicant that will carry out the following activities:

(a) Support of existing State-level business-education partnerships. The grantee must review, process, and approve, as appropriate, cost reimbursements to eligible State-level business-education partnerships selected by the Center for State Scholars and must monitor and provide oversight to these business-education partnerships.

(b) Selection of new State-level business-education partnerships. The grantee must—

(1) Design, develop, and implement procedures for soliciting proposals from, selecting, and awarding contracts for periods of up to 2 years, for a sum of up to $300,000 per partnership in total funding (except as approved by the Department) to be allocated during the project to, 8 to 12 new State-level business-education partnerships that are able to carry out the Initiative's activities in the States in which the business-education partnerships operate;

(2) Evaluate each business-education partnership's proposal for implementing the Initiative activities in its State. In evaluating each proposal the grantee must consider—

(i) The proposed timeline for implementation;

(ii) The proposed methods for sustaining the Initiative activities after exhausting Federal funding;

(iii) The administrative capacity of the business-education partnership, including personnel qualifications, time commitments by key personnel, and fiscal management;

(iv) The degree to which the business-education partnership coherently applies the grantee's implementation model for the Initiative activities and/or improves on the model; and

(v) The degree to which the business-education partnership identifies its own State's needs and customizes the grantee's implementation model, as appropriate, to address those needs;

(3) Ensure that each business-education partnership awarded a contract to participate in the project meets the following criteria:

(i) Has played a leadership role or has carried out innovative educational activities in the State in which it operates;

(ii) Has not received funding from the Center for State Scholars and has assured the grantee that, if selected, it would be the first entity in that State to receive Federal financial support under the Initiative;

(iii) Has letters of support from the Chief State School Officer and the Governor of the State that—

(A) Indicate their commitment to working toward aligning rigorous courses of study with State and local high school graduation requirements;

(B) Demonstrate a willingness to collaborate with the grantee and the business-education partnership to carry out activities under the Initiative; and

(C) State a willingness to work to identify methods and sustainable resources for motivating students to complete rigorous courses of study; and

(iv) Has a letter of commitment to participate in the Initiative activities from each of at least four school districts in the State, with each district having at least one school with a grade 12 participating in the Initiative activities. The letter of commitment must—

(A) State in writing that the school district and participating school(s) have the data systems in place to collect and track the data required by the grantee;

(B) Commit to providing the grantee with any and all non-identifiable student data that the grantee requires; and

(C) Be signed by the district superintendent and the principals of all participating schools.

(c) Support of new State-level business-education partnerships. The grantee must review, process, and approve, as appropriate, cost reimbursements to the State-level business-education partnerships that it has selected and must monitor and provide oversight to these business-education partnerships.

(d) Implementation model for use by State-level business-education partnerships. The grantee must disseminate a model that the State-level business-education partnerships it selects can use to implement Initiative activities in the States in which those business-education partnerships operate. The grantee may use materials produced by the Center for State Scholars to aid in its program activities. At a minimum, the model must—

(1) Specify a method for disseminating to high school students, parents, teachers, administrators, professional associations, policymakers, guidance counselors, and business leaders, in a sustained and comprehensive way, information about the importance of rigorous course work in high school. The method must tie into the communication networks that exist in the educational arena, in order to coordinate the message and to avoid duplicating efforts that other organizations have undertaken;

(2) Provide a comprehensive method to increase the percentage of students who enroll in, and complete, rigorous courses, including a method for maximizing business leaders' capacity to affect students' course enrollment patterns;

(3) Specify a process for engaging State policymakers, school district administrators, and professional associations in discussions about the importance of aligning rigorous course work in high school with high school graduation requirements;

(4) Identify techniques, methods, and resources for motivating students to complete a rigorous course of study;

(5) Demonstrate a sustainable approach to funding after Federal funds have been expended; and

(6) Include timelines, staffing patterns, and major activities.

(e) Technical assistance to State-level business-education partnerships. The grantee must provide technical assistance to State-level business-education partnerships with which the grantee enters into contracts and to which it provides reimbursements under the Initiative and to any and all partnerships that received funding from the Center for State Scholars in prior years, by offering—

(1) Assistance in implementing the model created by the grantee;

(2) Methods for identifying barriers to implementation of the Initiative activities in the State and suggesting solutions to overcome these barriers;

(3) Models for sustaining the Initiative goals and objectives after all available Federal contract funds have been expended; and

(4) Methods for developing partnerships with key stakeholders, such as parents, teachers, guidance counselors, administrators, community groups, and business leaders.

(f) Dissemination. The grantee must develop materials and disseminate those materials through a wide variety of media, such as preparing and submitting articles for publication in magazines, newspapers, and scholarly journals, making presentations at conferences and other events, publishing newsletters, and disseminating information through the Internet or other technology. These materials must contain the results of research showing the benefits of rigorous coursetaking and offer examples of how and where the Initiative activities have been implemented successfully.

(g) Communication with State-level business-education partnerships. The grantee must communicate with the State-level business-education partnerships funded by the grantee as well as those previously funded by the Center for State Scholars, at least quarterly to—

(1) Discuss the progress of implementation and share promising practices among the partnerships via telephone;

(2) Provide, via telephone, technical assistance in addressing challenges and identifying strategies for overcoming them; and

(3) Provide regular electronic communications to and among the business-education partnerships to ensure that relevant research, news, and other information are shared in a consistent manner.

(h) Evaluation. The grantee must enter into a contract for an independent third-party evaluation of the Initiative activities and the grantee's administration of the Initiative. The grantee must submit a yearly evaluation report that contains information about the measures listed in this paragraph (h), along with data on the performance measures indicated in the Performance Measures section of this notice. In addition to information describing the grantee's progress on the performance measures, the evaluation must also include the following:

(1) The use of existing data sources, or the establishment of new data sources or systems, to ascertain, at a minimum:

(A) Course enrollment data, including, but not limited to, the percentage of students in participating schools, districts, and States completing the entire rigorous course of study and the percentage of students completing each class that is a component of the rigorous course of study, disaggregated by race and ethnicity, family income level, limited English proficiency, gender, and disability.

(B) The impact of the Initiative on student, teacher, guidance counselor, and parent attitudes, perceptions, and beliefs about the importance of rigorous course taking and its effect on postsecondary and occupational outcomes.

(2) An assessment of promising practices for implementing the Initiative activities in all the business-education partnerships selected by the Center for State Scholars and by the grantee.

(3) An analysis of the grantee's effectiveness in serving as a technical assistance provider to all the business-education partnerships selected by the Center for State Scholars and by the grantee.

(4) An implementation study comparing the manner in which the Initiative was carried out in all the business-education partnerships selected by the Center for State Scholars and by the grantee.

(i) Submission of Interim Reports. The grantee must submit a progress report to the Department within 15 days of the end of each project quarter (except for the final project quarter in which a final report must be submitted as described in paragraph (k) in this section) that—

(1) Provides an update on the completion of project goals and activities by the grantee and by all the business-education partnerships selected by the Center for State Scholars and by the grantee;

(2) Outlines any major challenges to achieving project goals and the grantee's strategies for addressing these challenges;

(3) Describes any major changes in the project activities; and

(4) Gives a financial report about expenditures per budget category and links the Initiative goals to the expenditures.

(j) Submission of Annual Evaluation Report. The grantee must submit to the Department, within 15 days of the conclusion of each project year, an evaluation report that addresses the requirements in paragraph (h) in this section.

(k) Submission of Final Report. The grantee must submit to the Department, within three months of the conclusion of the project period, a final report that—

(1) Outlines the activities and accomplishments of the grantee and all the business-education partnerships selected by the Center for State Scholars and by the grantee;

(2) Provides information about the promising practices developed through the project that were carried out by the grantee and by all the business-education partnerships selected by the Center for State Scholars and by the grantee;

(3) Includes the findings of the independent third-party evaluation; and

(4) Reports on the performance measures described in the Performance Measures section of this notice.

Definitions:

In addition to the definitions contained in the Act and the applicable sections of the Education Department General Administrative Regulations (EDGAR), the following definitions also apply to this Initiative and competition:

The term rigorous course of study, rigorous course taking, rigorous coursework, or strong academic course of study means course work which, at a minimum, consists of the following: four credits of English, three credits of math (Algebra I, geometry, and Algebra II), three credits of basic lab science (biology, chemistry, and physics), three and one-half credits of social studies (chosen from U.S. and world history, geography, economics, and government), and two credits of the same language other than English.

The term State-level business-education partnership or business-education partnership means an entity that leads or implements educational initiatives throughout the State and whose members include individuals from the education and business communities.

The term grantee or grant recipient means the national nonprofit organization or agency that is selected and receives a Federal grant from the Department under this competition and utilizes that grant for allowable purposes under the terms of a cooperative agreement between the grantee and the Department.

The term national nonprofit organization or agency does not include SEAs, LEAs, or institutions of higher education, as defined in section 101 of the Higher Education Act of 1965, as amended.

Waiver of Proposed Rulemaking: Under the Administrative Procedure Act (APA) (5 U.S.C. 553), the Department generally offers interested parties the opportunity to comment on proposed program requirements, definitions, and selection criteria. Section 437(d)(2) of the General Education Provisions Act (20 U.S.C. 1232(d)(2)), however, allows the Secretary to exempt from rulemaking requirements, regulations where the Secretary determines that conducting rulemaking will cause extreme hardship to the intended beneficiaries of the program affected by the regulations.

The Secretary has determined that conducting rulemaking for this competition under the Initiative would cause extreme hardship to the beneficiaries of this program. Under a cooperative agreement with the Department, the current grantee under the Initiative, the Center for State Scholars, has provided technical assistance, oversight, monitoring support, and cost reimbursements to 14 State-level business-education partnerships for a multi-year period. On June 21, 2005, however, the Center for State Scholars notified the Department that it did not intend to continue as Initiative grantee and would be terminating its activities under the cooperative agreement on September 30, 2005.

The Department has not yet awarded FY 2004 or 2005 Initiative funds. Unless a new grantee is selected and awarded an Initiative grant by September 30, 2005, FY 2004 funds for the Initiative will lapse and will no longer be available for obligation by the Department. To conduct rulemaking at this time would not allow us to make an award of FY 2004 funds by September 30, 2005. The lapsing of FY 2004 funds would cause extreme hardship to the 14 current State business-education partnerships providing services under the Initiative, to future partnerships yet to be selected, and overall to all intended Initiative beneficiaries. Without such funds, the partnership programs currently in operation could cease, and students would not receive future services under the Initiative from new business-education partnerships.

Furthermore, in order to provide for continuity of effective program services under the Initiative, the Secretary believes that a grant award for at least a two-year period is necessary and that an award of only FY 2004 funds at this time would cause substantial harm to program beneficiaries. The requirements, definitions, and selection criteria established in this notice will apply to this grant competition for FY 2004 and FY 2005 funds only.

Program Authority: 20 U.S.C. 2324(c)(6)(A).

Applicable Regulations: EDGAR in 34 CFR parts 74, 75, 77, 79, 81, 82, 84, 85, 97, 98, and 99.

II. Award Information

Type of Award: Cooperative agreement.

Estimated Available Funds: $4,800,000 during the 24-month project period. The grant made under this competition will be made from FY 2004 and FY 2005 funds.

Estimated Size of Award: $4,800,000.

Estimated Number of Awards: 1.

Note: The Department is not bound by any estimates in this notice.

Note: The yearly operating budget for the grantee's administrative and direct program activity costs must be approved by the Department and is limited to between $600,000 and $800,000, except as approved by the Department. The major portion of the grant funds must be used to support contracts with State-level business-education partnerships that the grantee selects to carry out the Initiative activities.

Note: Any remaining FY 2003 funds currently held by the Center for State Scholars will be transferred to the grantee selected under this competition and will be used to reimburse existing State-level business-education partnerships that were selected by the Center for State Scholars.

Note: The Assistant Secretary plans to make an award to the entity selected under this competition through a cooperative agreement. The Assistant Secretary expects the Department's interaction with the grant recipient to be characterized by continuing and regular participation in the project, unusually close collaboration with the grant recipient, and direct operational involvement in Initiative activities.

Project Period: Up to 24 months.

III. Eligibility Information

1. Eligible Applicants: National nonprofit organizations or agencies that—

(i) Have background and expertise in the education field and have been in existence for at least three years;

(ii) Have worked actively with members of the business and education communities in one or more States, or at the national level, in carrying out the nonprofit entity's core activities; and

(iii) Have been providing technical assistance to LEAs, SEAs, secondary schools, educational institutions, or nonprofit educational organizations or agencies, on curriculum or other educational matters.

2. Cost Sharing or Matching: This competition does not involve cost sharing or matching.

IV. Application and Submission Information

1. Address To Request Application Package: Rebecca Arnold, U.S. Department of Education, 400 Maryland Ave., SW., Potomac Center Plaza, room 11115, Washington, DC 20202-7241. Telephone: (202) 245-7744 or by e-mail: Rebecca.Arnold@ed.gov.

If you use a telecommunications device for the deaf (TDD), you may call the Federal Relay Service (FRS) at 1-800-877-8339.

You may also obtain an application package via the Internet at the following address: http://www.ed.gov/about/offices/list/ovae/pi/hs/factsh/ssi.html.

Individuals with disabilities may obtain a copy of the application package in an alternative format (e.g., Braille, large print, audiotape, or computer diskette) by contacting the program contact person listed in this section.

2. Content and Form of Application Submission: Requirements concerning the content of an application, together with the forms you must submit, are in the application package for this competition.

Page Limit: The application narrative (Part III of the application) is where you, the applicant, address the selection criteria that reviewers use to evaluate your application. You are strongly encouraged to limit Part III to the equivalent of no more than 35 pages, using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The recommended page limit does not apply to Part I, the cover sheet; Part II, the budget section, including the narrative budget justification; Part IV, the assurances and certifications; or the one-page abstract, the resumes, the bibliography, or the letters of support. However, you must include all of the application narrative in Part III.

3. Submission Dates and Times: Applications Available: August 5, 2005.

Deadline for Transmittal of Applications: September 6, 2005.

Applications for grants under this competition must be submitted by mail or hand delivery. For information (including dates and times) about how to submit your application by mail or hand delivery, please refer to section IV. 6. Other Submission Requirements in this notice.

We do not consider an application that does not comply with the deadline requirements.

4. Intergovernmental Review: This competition is subject to Executive Order 12372 and the regulations in 34 CFR part 79.

5. Funding Restrictions: We reference regulations outlining funding restrictions in the Applicable Regulations section of this notice.

6. Other Submission Requirements: Applications for grants under this competition must be submitted in paper format by mail or hand delivery.

a. Submission of Applications by Mail.

If you submit your application by mail (through the U.S. Postal Service or a commercial carrier), you must mail the original and two copies of your application, on or before the application deadline date, to the Department at the applicable following address:

By mail through the U.S. Postal Service: U.S. Department of Education, Application Control Center, Attention: (CFDA Number 84.051U), 400 Maryland Avenue, SW., Washington, DC 20202-4260.

or

By mail through a commercial carrier: U.S. Department of Education, Application Control Center—Stop 4260, Attention: (CFDA Number 84.051U), 7100 Old Landover Road, Landover, MD 20785-1506.

Regardless of the address you use, you must show proof of mailing consisting of one of the following:

(1) A legibly dated U.S. Postal Service postmark, (2) A legible mail receipt with the date of mailing stamped by the U.S. Postal Service, (3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

b. Submission of Applications by Hand Delivery.

If you submit your application by hand delivery, you (or a courier service) must deliver the original and two copies of your application, by hand, on or before the application deadline date, to the Department at the following address: U.S. Department of Education, Application Control Center, Attention: (CFDA Number 84.051U), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The Department will apply the following selection criteria in evaluating applications under this competition. The maximum total score any applicant may receive is 100 points. The maximum score for each criterion is indicated in parentheses.

(a) Technical Approach (45 points). The Assistant Secretary considers the quality of the technical approach of the proposed project. In determining the quality of the technical approach of the proposed project, the Assistant Secretary considers the following:

(1) Implementation Model (15 points). The extent to which the applicant presents an outline of a model that State-level business-education partnerships can use to implement Initiative activities in the States in which the business-education partnerships operate and that—

(i) Comprehensively addresses the criteria outlined in paragraph (d) of the Requirements section of this notice; and

(ii) Is feasible for implementation by State-level business-education partnerships.

(2) Program Activities (15 points). The extent to which the applicant presents a plan that comprehensively addresses each of the following required program activities:

(i) The technical assistance activities outlined in paragraph (e) of the Requirements section of this notice.

(ii) The dissemination activities outlined in paragraph (f) of the Requirements section of this notice.

(iii) The communication activities outlined in paragraph (g) of the Requirements section of this notice.

(3) Improvements (5 points). The extent to which the applicant—

(i) Identifies additional activities, beyond the required program activities, that enhance the program's design; and

(ii) Describes any anticipated problems and recommends solutions for those problems.

(4) Business-education Partnership Contracts (10 points). The extent to which the applicant presents a thorough and objective application process for business-education partnerships seeking funding to implement the program in their State, which meets all of the requirements outlined in paragraph (b) of the Requirements section of this notice.

(b) Management Plan (35 points). The Assistant Secretary considers the quality of the management plan of the proposed project. In determining the quality of the management plan of the proposed project, the Assistant Secretary considers the following:

(1) Description of Plan (15 points). The extent to which the applicant includes a description, in a clear and sequential fashion, of the plan for managing the project.

(2) Budget (5 points). The extent to which the budget proposes an appropriate distribution of available Federal resources to carry out the listed program requirements and a sound, well-developed financial management system.

(3) Key Personnel (5 points). The extent to which key personnel have—

(i) Clearly defined responsibilities;

(ii) An appropriate amount of time committed to the project; and

(iii) Clearly identified and documented qualifications, competencies, and experiences that are appropriate for the tasks to be carried out under this Initiative.

(4) Experience (10 points). The extent to which the applicant demonstrates its overall administrative experience and capacity to carry out the Initiative, including a demonstration of its experience in leading or implementing educational initiatives and managing Federal, State, local, or private education grants.

(c) Evaluation (20 points). In determining the quality of the evaluation plan of the proposed project, the Assistant Secretary considers the extent to which the applicant's evaluation plan conforms to the program requirements in paragraph (h) of the Requirements section of this notice.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Assistant Secretary. If you receive a multi-year award, you must submit an annual performance report that provides the most current performance and financial expenditure information as specified in 34 CFR 75.118.

4. Performance Measures: The grantee must collect data, and report annually to the Department, on the following performance measures to measure the effectiveness of the Initiative:

(i) The number and percentage of students in participating schools, districts, and States who have four-year high school course enrollment plans that include the Initiative's rigorous course of study. If four-year high school course enrollment plans do not exist in a participating school, then the number and percentage of students who have a one-or two-year high school course enrollment plan that includes components of the rigorous course of study.

(ii) The availability of classes that comprise the rigorous course of study in participating schools, districts, and States.

VII. Agency Contact

FOR FURTHER INFORMATION CONTACT: Rebecca Arnold, U.S. Department of Education, 400 Maryland Ave., SW., Potomac Center Plaza, room 11115, Washington, DC 20202-7241. Telephone: (202) 245-7744 or by e-mail: Rebecca.Arnold@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: August 3, 2005.
Susan Sclafani,
Assistant Secretary for Vocational and Adult Education.

[FR Doc. 05-15632 Filed 8-4-05; 8:45 am]

BILLING CODE 4000-01-P